DEPARTMENT OF AGRICULTURE

Commodity Credit Corporation

7 CFR Parts 1435 and 1436

RIN 0560-AG73

2002 Farm Security and Rural Investment Act of 2002 Sugar Programs and Farm Facility Storage Loan Program

AGENCY: Commodity Credit Corporation, USDA.

ACTION: Final rule; correction.

SUMMARY: This document contains corrections to the final rule that was published in the Federal Register on Monday, August 26, 2002 (67 FR 54926). Several sections of the regulation were incorrectly numbered in the final rule. The corrections are provided in this document.

EFFECTIVE DATE: October 25, 2002.

FOR FURTHER INFORMATION CONTACT: Tom Witzig, 202-205-5851, email: tom_witzig@wdc.fsa.usda.gov. Persons with disabilities who require alternative means for communication (Braille, large print, audiotape, etc.) should contact the USDA Target Center at (202) 720-2600 (voice and TDD).

SUPPLEMENTARY INFORMATION: In the final rule published on August 26, 2002, (67 FR 54926) make the following corrections.

§ 1435.308 [Corrected]

1. On page 54934, in the third column, under § 1435.308, paragraphs (a)(3), and (a)(4) are redesignated as paragraphs (b) and (c), respectively.

2. On page 54935, in the first column, under § 1435.308, paragraphs (a)(5), (b) and (c) are redesignated as paragraphs (d), (e) and (f), respectively.

§ 1436.37 [Corrected]

3. On page 54939, in the third column, § 1436.37 is redesignated as § 1436.19.

Signed in Washington, DC, on October 21, 2002.
James R. Little,
Executive Vice President, Commodity Credit Corporation.

[FR Doc. 02-27228 Filed 10-25-02; 8:45 am]

BILLING CODE 3410-05-P